DEPARTMENT OF DEFENSE

Office of the Secretary

Sunshine Act Meeting

AGENCY: Office of the Assistant Secretary of Defense (Health Affairs); DoD

ACTION: Notice of meeting.

SUMMARY: Pursuant to the Federal Advisory Committee Act of 1972 (5 U.S.C., Appendix, as amended), the Sunshine in the Government Act of 1976 (5 U.S.C. § 552b, as amended) and 41 Code of Federal Regulations (CFR) §§ 102-3.140 through 160, the Department of Defense announces the following committee meeting:

Name of Committee: Department of Defense Task Force on the Future of Military Health Care, a duly established subcommittee of the Defense Health Board.

Date of Meeting: July 11, 2007.

Time of Meeting: 8:30 a.m. to 2 p.m.

Place of Meeting: National Transportation Safety Board Conference Center, 429 L'Enfant Plaza, Washington, DC 20594.

Purpose of Meeting: To obtain, review, and evaluate information related to the Task Force's congressionally-directed mission to examine matters relating to the future of military health care. The Task Force members will receive briefings on topics related to the delivery of military health care during the public meeting.

Agenda: Discussion topics include Health and Wellness issues related to the military healthcare system.

Prior to the public meeting the Task Force will conduct a Preparatory Work Meeting from 8 a.m.-8:20 a.m. to solely analyze relevant issues and facts in preparation for the Task Force's next public meeting. The Preparatory Work Meeting is closed to the public. Additional information is available online at the Task Force Web site: www.DoDfuturehealthcare.net.

FOR FURTHER INFORMATION CONTACT: Colonel Christine Bader, Executive Secretary, Department of Defense Task, Force on the Future of Military Health Care, TMA/Code: DHS, Five Skyline Place, Suite 810, 5111 Leesburg Pike, Falls Church, Virginia 22041-3206, (703) 681-3279, ext. 109 (Christine.bader@ha.osd.mil).

SUPPLEMENTARY INFORMATION: Open sessions of the meeting will be limited by space accommodations. Any interested person may attend: however, seating is limited to the space available at the National Transportation Safety Board Conference Center. Individuals or organizations wishing to submit written comments for consideration by the Task Force should provide their comments in an electronic (PDF Format) document through the Task Force Web site (www.DoDfuturehealthcare.net) at the “Contact Us” page, no later than five (5) business days prior to the scheduled meeting.

Dated: June 26, 2007.
C.R. Choate,
Alternate OSD Federal Register Liaison Officer, Department of Defense.

[FR Doc. 07-3211 Filed 6-27-07; 11:17 am]

BILLING CODE 5001-06-M